DEPARTMENT OF COMMERCE

International Trade Administration

[A-552-801]

Certain Frozen Fish Fillets from the Socialist Republic of Vietnam: Extension of Time Limits for the Preliminary Results of the 2006-2007 Semiannual New Shipper Reviews

AGENCY: Import Administration, International Trade Administration, Department of Commerce.

EFFECTIVE DATE: December 21, 2007.

FOR FURTHER INFORMATION CONTACT: Julia Hancock, Nicole Bankhead, and Michael Holton, AD/CVD Operations, Office 9, Import Administration, International Trade Administration, U.S. Department of Commerce, 14th Street and Constitution Avenue, NW, Washington, DC 20230; telephone: (202) 482-1394, (202) 482-9068, and (202) 482-1324, respectively.

Background

On April 2, 2007, the Department of Commerce (“the Department”) published a notice of initiation of new shipper reviews of certain frozen fish fillets from the Socialist Republic of Vietnam (“Vietnam”) covering the period August 1, 2006, through January 31, 2007. See Certain Frozen Fish Fillets from the Socialist Republic of Vietnam: Initiation of New Shipper Reviews, 72 FR 15653 (April 2, 2007). On September 12, 2007, the Department extended the preliminary results of these new shipper reviews by ninety days. See Certain Frozen Fish Fillets from the Socialist Republic of Vietnam: Extension of Time Limits for the Preliminary Results of the 2006-2007 Semiannual New Shipper Reviews, 72 FR 52048 (September 12, 2007). The preliminary results of these new shipper reviews are currently due no later than December 21, 2007.

Statutory Time Limits

Section 751(a)(2)(B)(iv) of the Tariff Act of 1930, as amended (the “Act”), provides that the Department will issue the preliminary results of a new shipper review of an antidumping duty order within 180 days after the day on which the review was initiated. See also 19 CFR 351.214 (i)(1). The Act further provides that the Department may extend that 180-day period to 300 days if it determines that the case is extraordinarily complicated. See 19 CFR 351.214 (i)(2).

Extension of Time Limit of Preliminary Results

The Department determines that these new shipper reviews involve extraordinarily complicated methodological issues such as potential affiliation issues, the examination of importer information and the evaluation of the bona fide nature of each company's sales. Therefore, in accordance with section 751(a)(2)(B)(iv) of the Act and 19 CFR 351.214(i)(2), the Department is extending the time limit for these preliminary results by 30 days, until no later than January 22, 2008.¹ The final results continue to be due 90 days after the publication of the preliminary results.

¹ Thirty days from the original deadline is January 20, 2008. However, Department practice dictates that where a deadline falls on a weekend or holiday, the appropriate deadline is the next business day. See Notice of Clarification: Application of “Next Business Day” Rule for Administrative Determination Deadlines Pursuant to the Act, 70 FR 24533 (May 10, 2005).

We are issuing and publishing this notice in accordance with sections 751(a)(2)(B)(iv) and 777(i) of the Act.

Dated: December 13, 2007.
Stephen J. Claeys,
Deputy Assistant Secretary for Import Administration.

[FR Doc. E7-24854 Filed 12-20-07; 8:45 am]

BILLING CODE 3510-DS-S